DEPARTMENT OF DEFENSE

Office of the Secretary

Federal Advisory Committee; Defense Health Board Meeting

AGENCY: Department of Defense (DoD).

ACTION: Notice of meeting.

SUMMARY: Pursuant to the Federal Advisory Committee Act of 1972 (5 U.S.C., Appendix as amended), the Government in the Sunshine Act of 1976 (5 U.S.C. 552b, as amended), and 41 CFR 102-3.150, and in accordance with section 10(a)(2) of Public Law, a meeting of the Defense Health Board (DHB) is announced.

DATES:

August 21, 2012

7:00 a.m.-4:00 p.m. (Administrative Working Meeting) and

August 22, 2012

9:00 a.m.-12:00 p.m. (Open Session);

12:00 p.m.-1:00 p.m. (Administrative Working Meeting).

ADDRESSES: The August 22 meeting will be held at the Renaissance Chicago North Shore Hotel, 933 Skokie Blvd., Northbrook, IL 60062.

FOR FURTHER INFORMATION CONTACT: Ms. Christine Bader, Director, Defense Health Board, 7700 Arlington Boulevard, Suite 5101, Falls Church, VA 22042-5101, (703) 681-6653, Fax: (703) 681-9539, Christine.bader@tma.osd.mil.

SUPPLEMENTARY INFORMATION: Additional information, including the agenda and electronic registration are available at the DHB Web site, http://www.health.mil/dhb/default.cfm. Anyone intending to attend is encouraged to register to ensure that adequate seating is available.

Purpose of the Meeting

The purpose of the meeting is to address and deliberate pending and new Board issues before the Board.

Agenda

On August 21, 2012, the Board will be conducting an administrative working session. On August 22, 2012, the Board will receive briefings regarding military health needs and priorities including, a vote on Supraglottic Airways, information briefs from the Obesity Ad Hoc Work Group, the Categorizing Biological Agents In Post Mortem Risk Groups Ad Hoc Work Group, and Military Health Systems Governance Updates.

Pursuant to 5 U.S.C. 552b, as amended, and 41 CFR 102-3.140 through 102-3.165 and subject to availability of space, the DHB meeting on August 22, 2012 will be open to the public from 9:00 a.m. to 12:00 p.m.

Written Statements

Any member of the public wishing to provide comments to the DHB may do so in accordance with 41 CFR 102-3.140(C) and section 10(a)(3) of the Federal Advisory Committee Act, and the procedures described in this notice.

Individuals desiring to provide comments to the DHB may do so by submitting a written statement to the DHB Designated Federal Officer (DFO) (see FOR FURTHER INFORMATION CONTACT). Written statements should address the following details: the issue, discussion, and a recommended course of action. Supporting documentation may also be included, as needed, to establish the appropriate historical context and to provide any necessary background information.

If the written statement is not received at least 10 calendar days prior to the meeting, the DFO may choose to postpone consideration of the statement until the next open meeting.

The DFO will review all timely submissions with the DHB President and ensure they are provided to members of the DHB before the meeting that is subject to this notice. After reviewing the written comments, the DHB President and the DFO may choose to invite the submitter to orally present their issue during an open portion of this meeting or at a future meeting. The DFO, in consultation with the DHB President, may allot time for members of the public to present their issues for review and discussion by the DHB.

Special Accommodations

If special accommodations are required to attend (sign language, wheelchair accessibility) please contact Ms. Lisa Jarrett at (703) 681-6670 by Friday, August 10, 2012.

Dated: July 30, 2012.
Aaron Siegel,
Alternate OSD Federal Register Liaison Officer, Department of Defense.

[FR Doc. 2012-18962 Filed 8-2-12; 8:45 am]

BILLING CODE 5001-06-P